DEPARTMENT OF ENERGY

Federal Energy Regulatory Commission

Combined Notice of Filings #1

Take notice that the Commission received the following electric rate filings:

Docket Numbers: ER20-1515-001.

Applicants: Milligan 1 Wind LLC.

Description: Notice of Change in Status of Milligan 1 Wind LLC.

Filed Date: 1/27/21.

Accession Number: 20210127-5231.

Comments Due: 5 p.m. ET 2/17/21.

Docket Numbers: ER21-959-000.

Applicants: Public Service Company of New Mexico.

Description: § 205(d) Rate Filing: First Revised Transmission Service Agreement No. 493 to be effective 12/28/2020.

Filed Date: 1/27/21.

Accession Number: 20210127-5207.

Comments Due: 5 p.m. ET 2/17/21.

Docket Numbers: ER21-960-000.

Applicants: Southwest Power Pool, Inc.

Description: § 205(d) Rate Filing: 1630R11 The Empire District Electric Company NITSA and NOA to be effective 1/1/2021.

Filed Date: 1/28/21.

Accession Number: 20210128-5048.

Comments Due: 5 p.m. ET 2/18/21.

Docket Numbers: ER21-961-000.

Applicants: PJM Interconnection, L.L.C.

Description: Tariff Cancellation: Notice of Cancellation of ISA and ICSA, SA Nos. 4095, 4107 and 4567 to be effective 2/22/2021.

Filed Date: 1/28/21.

Accession Number: 20210128-5073.

Comments Due: 5 p.m. ET 2/18/21.

Docket Numbers: ER21-962-000.

Applicants: Southwest Power Pool, Inc.

Description: § 205(d) Rate Filing: 1876R7 KEPCO NITSA NOA to be effective 1/1/2021.

Filed Date: 1/28/21.

Accession Number: 20210128-5077.

Comments Due: 5 p.m. ET 2/18/21.

Docket Numbers: ER21-963-000.

Applicants: Silverstrand Grid, LLC.

Description: Baseline eTariff Filing: Application For Market Based Rate Authority to be effective 2/1/2021.

Filed Date: 1/28/21.

Accession Number: 20210128-5102.

Comments Due: 5 p.m. ET 2/18/21.

Docket Numbers: ER21-964-000.

Applicants: Microsoft Energy LLC.

Description: Baseline eTariff Filing: Application for Market-based Rate Authority to be effective 1/29/2021.

Filed Date: 1/28/21.

Accession Number: 20210128-5120.

Comments Due: 5 p.m. ET 2/18/21.

Docket Numbers: ER21-965-000.

Applicants: Ventura Energy Storage, LLC.

Description: Baseline eTariff Filing: Ventura Energy Storage, LLC MBR Tariff to be effective 3/4/2021.

Filed Date: 1/28/21.

Accession Number: 20210128-5134.

Comments Due: 5 p.m. ET 2/18/21.

Docket Numbers: ER21-966-000.

Applicants: Tri-State Generation and Transmission Association, Inc.

Description: Initial rate filing: Tri-State Submission of Balancing Authority Services Agreement to be effective 2/1/2021.

Filed Date: 1/28/21.

Accession Number: 20210128-5145.

Comments Due: 5 p.m. ET 2/18/21.

Docket Numbers: ER21-967-000.

Applicants: Midcontinent Independent System Operator, Inc.

Description: § 205(d) Rate Filing: 2021-01-28_SA 2786 ITC Midwest-Interstate Power & Light 4th Rev GIA (J233 J514) to be effective 1/20/2021.

Filed Date: 1/28/21.

Accession Number: 20210128-5161.

Comments Due: 5 p.m. ET 2/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2021.
Nathaniel J. Davis, Sr.,
Deputy Secretary.

[FR Doc. 2021-02222 Filed 2-2-21; 8:45 am]

BILLING CODE 6717-01-P